DEPARTMENT OF DEFENSE

Corps of Engineers, Department of the Army

Notice of Availability for the Final Environmental Impact Statement for the San Juan Creek Watershed/Western San Mateo Creek Watershed Special Area Management Plan (SAMP), Orange County, CA

AGENCY: Department of Defense, Department of the Army, Corps of Engineers, Los Angeles District Regulatory Branch.

ACTION: Notice of Availability for a Final EIS.

SUMMARY: The U.S. Army Corps of Engineers, Regulatory Branch has completed a Final EIS for the San Juan Creek Watershed/Western San Mateo Creek Watershed Special Area Management Plan (SAMP). The San Juan Creek Watershed/Western San Mateo Creek Watershed SAMP establishes three alternative permitting procedures that balance aquatic resource protection and reasonable economic development for the San Juan Creek Watershed and western San Mateo Creek Watershed.

DATES: The Final EIS will be available to the public for 30 days from January 12, 2007 to February 12, 2007. After the 30 day availability period, a Record of Decision will be issued.

FOR FURTHER INFORMATION CONTACT: Mr. Jae Chung, Project Manager, Regulatory Branch, U.S. Army Corps of Engineers, P.O. Box 532711, Los Angeles, California, 90053-2325, (213) 452-3292, yong.j.chung@usace.army.mil.

SUPPLEMENTARY INFORMATION: A previous Notice of Availability for this Final EIS was published on December 28, 2006. Because there were portions of the Final EIS not provided to other federal agencies in advance of the Federal Register notice, the Notice of Availability is re-issued with a new public review period that ends on February 12, 2007.

Under Section 404 of the Clean Water Act, the Corps is authorized to issue permits for activities that discharge dredged and/or fill materials into waters of the U.S., including wetlands, for roads, developments, utilities, and other activities. For the San Juan Creek and western San Mateo Creek Watersheds, the Corps is proposing a watershed-based SAMP to balance aquatic resource protection and reasonable economic development. The SAMP is an improvement over the current incremental case-by-case approach, which does a less effective job of taking a watershed perspective of aquatic resources and considering the needs of future permit applicants. The SAMP involves characterizing aquatic resource conditions and processes through the watershed, establishing alternative permitting procedures more appropriate for the given aquatic resources in the watershed, and developing a coordinated aquatic resources management framework.

The Draft EIS was made available to the public on November 21, 2005. The Corps accepted written comments until January 16, 2006, and accepted oral comments in a public hearing dated December 6, 2006. The Corps received ten written comments throughout the comment period and two oral comments at the public hearing.

The Final EIS is available to the public at the reference desks at the following local libraries: Mission Viejo Library, 100 Civic Center, Mission Viejo, CA 92691; San Clemente Library, 242 Avenida Del Mar, San Clemente, CA 92672; Laguna Hills Library, 25555 Alicia Parkway, Laguna Hills, CA 92653; Laguna Niguel Library, 30341 Crown Valley Parkway, Laguna Niguel, CA 92656; San Juan Capistrano Library, 31495 El Camino Real, San Juan Capistrano, CA 92675; Rancho Santa Margarita Library, 30902 La Promesa, Rancho Santa Margarita, CA 92688; and Dana Point Library, 33841 Niguel Road, Laguna Niguel, CA 92656. Information on obtaining electronic copies of the Final EIS is available by phoning or mailing the contact person or by visiting http://www.spl.usace.army.mil/samp/sanjuancreeksamp.htm.

David J. Castanon,
Chief, Regulatory Branch.

[FR Doc. E7-228 Filed 1-11-07; 8:45 am]

BILLING CODE 3710-KF-P